NATIONAL SCIENCE FOUNDATION

Sunshine Act Meetings; National Science Board

The National Science Board, pursuant to NSF regulations (45 CFR part 614), the National Science Foundation Act, as amended (42 U.S.C. 1862n-5), and the Government in the Sunshine Act (5 U.S.C. 552b), hereby gives notice in regard to the scheduling of meetings for the transaction of National Science Board business and other matters specified, as follows:

AGENCY HOLDING MEETING: National Science Board.

DATE AND TIME: July 17, 2012, from 8:15 a.m. to 4:00 p.m., and July 18, 2012 from 8:00 a.m. to 12:00 p.m.

PLACE: These meetings will be held at the National Science Foundation, 4201Wilson Blvd., Room 1235, Arlington, VA 22230. All visitors must contact the Board Office (call 703-292-7000 or send an email message to nationalsciencebrd@nsf.gov) at least 24 hours prior to the meeting and provide name and organizational affiliation. All visitors must report to the NSF visitor desk located in the lobby at the 9th and N. Stuart Streets entrance to receive a visitor's badge.

WEBCAST INFORMATION: The public meetings and public portions of meetings will be webcast. To view the meetings, go to http://www.tvworldwide.com/events/nsf/120717/ and follow the instructions.

UPDATES: Please refer to the National Science Board Web site www.nsf.gov/nsb for additional information. Meeting information and schedule updates (time, place, subject matter or status of meeting) may be found at http://www.nsf.gov/nsb/notices/.

AGENCY CONTACT: Jennie L. Moehlmann, jmoehlma@nsf.gov, (703) 292-7000.

PUBLIC AFFAIRS CONTACT: Dana Topousis, dtopousi@nsf.gov, (703) 292-7750.

STATUS: Portions open; portions closed.

Open Sessions

July 17, 2012

8:15-8:20 a.m. (Chairman's introduction)

8:20-8:30 a.m. (SCF)

8:30-11:00 a.m. (previously noticed continuation of CPP meeting)

11:00-11:45 a.m. (A&O)

1:30-4:00 p.m. (SEI)

July 18, 2012

8:00-8:30 a.m. (CSB)

11:00 a.m.-12:00 p.m. (Board)

Closed Sessions

July 18, 2012

8:30-9:00 a.m. (CSB)

9:00-9:30 a.m. (Board, executive closed)

9:30-10:00 a.m. (Board)

Matters To Be Discussed

Tuesday July 17, 2012

CSB Subcommittee on Facilities (SCF)

Open Session: 8:20-8:30 a.m.

• Chairman's Remarks

• Approval of minutes from the May 2012 meeting

• Approval of the 2012 annual Portfolio Review

• Chairman's Closing Remarks

Committee on Audit and Oversight (A&O)

Open Session: 11:00-11:45 a.m.

• Approval of Minutes of the May 2012 Open and Closed Sessions

• Committee Chairman's Opening Remarks

• Inspector General's Update

• Chief Financial Officer's Update

• Committee Chairman's Closing Remarks

Committee on Science & Engineering Indicators (SEI)

Open Session: 1:30-4:00 p.m.

• Chairman's Remarks

• Approval of May board meeting minutes

• Director's Award for Collaborative Integration

• Review of Second Companion to Science and Engineering Indicators 2012 and Discussion of Release Plans

• Overview of the Process for Producing Science and Engineering Indicators 2014 and Key Board Dates and Activities

• Introduction of Chapter Authors and Discussion of Science and Engineering Indicators 2014 Narrative Chapter Outlines

• Update on Release of the first Companion to Science and Engineering Indicators 2012

• Chairman's Summary

Wednesday, July 18, 2012

Committee on Strategy and Budget (CSB)

Open Session: 8:00-8:30 a.m.

• Chairman's Remarks

• Approval of May Meeting Minutes

• NSF FY 2013 Budget Update

• Report from Subcommittee on Facilities

• Other Committee Business

Committee on Strategy and Budget (CSB)

Closed Session: 8:30-9:00 a.m.

• NSF FY 2014 Budget Development

Plenary Board Meeting

Executive Closed Session: 9:00-9:30 a.m.

• Approval of Executive Closed Session Minutes, May 2012

• Discussion of Board Member Proposals

• Update on Antarctic Infrastructure Planning

Plenary Board Meeting

Closed Session: 9:30-10:00 a.m.

• Approval of Closed Session Minutes, May 2012

• Awards and Agreements (Resolutions), from CPP

• Closed Committee Reports

Plenary Open

Open Session: 11:00 a.m.-12:00 p.m.

• Approval of Open Session Minutes, May 2012

• Chairman's Report

• Director's Report

• Open Committee Reports

Meeting Adjourns: 12:00 p.m.

Ann Bushmiller,
Senior Counsel to the National Science Board.

[FR Doc. 2012-17148 Filed 7-10-12; 4:15 pm]

BILLING CODE 7555-01-P